NATIONAL AERONAUTICS AND SPACE ADMINISTRATION

[04-039]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC, 20503.

FOR FURTHER INFORMATION CONTACT: Requests for additional information or copies of the information collection instrument(s) and instructions should be directed to Ms. Nancy Kaplan, NASA Reports Officer, NASA Headquarters, 300 E Street SW, Code AO, Washington, DC 20546, (202) 358-1372.

SUPPLEMENTARY INFORMATION:

I. Abstract

The National Aeronautics and Space Administration (NASA) plans to renew an ongoing collection, in the form of reports for contracts with a value more than $500,000, designed to monitor contract compliance in support of NASA's mission. The requirements for this information are set forth in the Federal Acquisition Regulation (FAR), the NASA FAR Supplement, and approved mission requirements. NASA technical program and contract management personnel use this information to effectively manage and administer contracts; to measure the contractor's performance; to evaluate contractor management systems; to ensure compliance with mandatory public policy provision,; to evaluate and control costs charged against a contract; to detect and minimize conditions conducive to fraud, waste, and abuse; and to form a database for general overview reports to the Congressional and Executive branches.

II. Method of Collection

NASA collects this information electronically where feasible, but information may also be collected by mail or fax.

III. Data

Title: NASA Acquisition Process: Reports Required for Contracts With an Estimated Value More Than $500,000.

OMB Number: 2700-0089.

Type of review: Extension of a currently approved collection.

Affected Public: Business or other for-profit; Not-for-profit institutions; State, local, or tribal governments.

Estimated Number of Respondents: 1,652.

Estimated Time Per Response: Respondents submit an average of 53 reports annually, requiring an average of 7 hours per report response time, for a total of 371 annual hours per respondent.

Estimated Total Annual Burden Hours: 601,328.

Estimated Total Annual Cost: $0.

IV. Request for Comments

Comments are invited on: (1) Whether the proposed collection of information is necessary for the proper performance of the functions of the agency, including whether the information collected has practical utility; (2) the accuracy of the agency's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer, Office of the Administrator.

[FR Doc. 04-4793 Filed 3-3-04; 8:45 am]

BILLING CODE 7510-01-P